DEPARTMENT OF ENERGY

Federal Energy Regulatory Commission

Notice

April 18, 2001.

The following notice of meering is published pursuant to section 3(a) of the Government in the Sunshine Act (Pub. L. No. 94-409), 5 U.S.C 552B:

AGENCY HOLDING MEETING: Federal Energy Regulatory Commission.

DATE AND TIME: April 25, 2001, 10:00 a.m.

PLACE: Room 2C, 888 First Street, NE., Washington, DC 20426.

STATUS: Open.

MATTERS TO BE CONSIDERED: Agenda.

Note: —Items listed on the agenda may be deleted without further notice.

CONTACT PERSON FOR MORE INFORMATION: David P. Boergers, Secretary, Telephone (202) 208-0400. For a recording listing items stricken from or added to the meeting, call (202) 208-1627.

This is a list of matters to be considered by the Commission. It does not include a listing of all papers relevant to the items on the agenda; however, all public documents may be examined in the Reference and Information Center.

765th—Meeting April 25, 2001, Regular Meeting 10:00 a.m., Consent Agenda—Markets, Tariffs and Rates—Electric

Consent Agenda—Markets, Tariffs and Rates—Electric

CAE-1.

DOCKET# ER01-1353,000, PACIFICORP

OTHER#S ER01-1354,000, PACIFICORP

ER01-1355,000, PACIFICORP

CAE-2.

DOCKET# ER01-798,000, PACIFICORP

OTHER#S ER01-798,001, PACIFICORP

CAE-3.

DOCKET# ER01-1329,000, IDAHO POWER COMPANY

CAE-4.

DOCKET# ER01-1385,000, CONSOLIDATED EDISON COMPANY OF NEW YORK

OTHER#S EL01-45,000, CONSOLIDATED EDISON COMPANY OF NEW YORK

CAE-5.

DOCKET# ER00-3591,000, NEW YORK INDEPENDENT SYSTEM OPERATOR, INC.

OTHER#S ER00-3591,001, NEW YORK INDEPENDENT SYSTEM OPERATOR, INC.

ER00-3591,002, NEW YORK INDEPENDENT SYSTEM OPERATOR, INC.

EL00-70,003, NEW YORK STATE ELECTRIC AND GAS CORPORATION V. NEW YORK INDEPENDENT SYSTEM OPERATOR, INC.

EL00-70,002, NEW YORK STATE ELECTRIC AND GAS CORPORATION V. NEW YORK INDEPENDENT SYSTEM OPERATOR, INC.

ER00-1969,001, NEW YORK INDEPENDENT SYSTEM OPERATOR, INC.

ER00-3038,002, NEW YORK INDEPENDENT SYSTEM OPERATOR, INC.

ER00-3038,001, NEW YORK INDEPENDENT SYSTEM OPERATOR, INC.

CAE-6.

DOCKET# ER01-1401,000, NEW ENGLAND POWER POOL

OTHER#S ER01-1401,001, NEW ENGLAND POWER POOL

CAE-7.

DOCKET# ER01-1517,000, NEW YORK INDEPENDENT SYSTEM OPERATOR, INC.

OTHER#S ER01-181,000, NEW YORK INDEPENDENT SYSTEM OPERATOR, INC.

CAE-8.

DOCKET# ER01-1489,000, NEW YORK INDEPENDENT SYSTEM OPERATOR, INC.

CAE-9.

DOCKET# ER01-1440,000, PJM INTERCONNECTION, L.L.C.

CAE-10.

DOCKET# ER01-1400,000, WALTON ELECTRIC MEMBERSHIP CORPORATION

CAE-11.

DOCKET# ER01-1403,000, FIRSTENERGY OPERATING COMPANIES

CAE-12.

DOCKET# ER01-1398,000, NEW ENGLAND POWER POOL PARTICIPANTS COMMITTEE

CAE-13.

DOCKET# ER01-1417,000, RICHMOND COUNTY POWER, LLC

CAE-14.

DOCKET# ER01-1482,000, ISO NEW ENGLAND INC.

CAE-15.

OMITTED

CAE-16.

DOCKET# ER01-1520,000, NEW YORK INDEPENDENT SYSTEM OPERATOR, INC.

CAE-17.

DOCKET# ER01-1519,000, ARIZONA PUBLIC SERVICE COMPANY

CAE-18.

DOCKET# ER01-1305,000, WESTAR GENERATING, INC.

OTHER#S ER01-1305,001, WESTAR GENERATING, INC.

ER01-1305,002, WESTAR GENERATING, INC.

CAE-19.

DOCKET# ER01-1303,000, INTERNATIONAL TRANSMISSION COMPANY

CAE-20.

DOCKET# ER00-188,000, PSI ENERGY, INC.

CAE-21.

OMITTED

CAE-22.

DOCKET# ER01-314,000, SOUTHERN CALIFORNIA EDISON COMPANY

CAE-23.

DOCKET# ER01-813,000, CONNECTICUT YANKEE ATOMIC POWER COMPANY

CAE-24.

DOCKET# ER01-368,000, ISO NEW ENGLAND INC.

OTHER#S ER01-368,001, ISO NEW ENGLAND INC.

CAE-25.

DOCKET# RT01-35,000, AVISTA CORPORATION, BONNEVILLE POWER ADMINISTRATION, IDAHO POWER COMPANY, MONTANA POWER COMPANY, NEVADA POWER COMPANY, PACIFICORP, PORTLAND GENERAL ELECTRIC COMPANY, PUGET SOUND ENERGY, INC. AND SIERRA PACIFIC POWER COMPANY

OTHER#S RT01-15,000, AVISTA CORPORATION, MONTANA POWER COMPANY, NEVADA POWER COMPANY, PORTLAND GENERAL ELECTRIC COMPANY, PUGET SOUND ENERGY, INC. AND SIERRA PACIFIC POWER COMPANY

CAE-26.

DOCKET# EL99-26,001, HYDRO INVESTORS, INC. V. TRAFALGAR POWER, INC.

OTHER#S QF87-499,002, TRAFALGAR POWER, INC.

QF87-500,002, TRAFALGAR POWER, INC.

QF87-501,002, TRAFALGAR POWER, INC.

QF88-413,002, TRAFALGAR POWER, INC.

QF88-414,002, TRAFALGAR POWER, INC.

QF88-415,002, TRAFALGAR POWER, INC.

QF88-416,002, TRAFALGAR POWER, INC.

CAE-27.

DOCKET# ER01-318,004, CONSUMERS ENERGY COMPANY

CAE-28.

DOCKET# EC01-22,001, OHIO EDISON COMPANY, THE CLEVELAND ELECTRIC ILLUMINATING COMPANY, THE TOLEDO EDISON COMPANY, PENNSYLVANIA POWER COMPANY, AMERICAN TRANSMISSION SYSTEMS, INC. AND THEIR PUBLIC UTILITY AFFILIATES AND JERSEY CENTRAL POWER & LIGHT COMPANY, METROPOLITAN EDISON COMPANY AND PENNSYLVANIA ELECTRIC COMPANY AND THEIR PUBLIC UTILITY AFFILIATES

CAE-29.

DOCKET# EL94-38,001, CITIES OF BATAVIA AND ST. CHARLES, ILLINOIS V. COMMONWEALTH EDISON COMPANY

OTHER#S ER94-913,001, CITIES OF BATAVIA AND ST. CHARLES, ILLINOIS V. COMMONWEALTH EDISON COMPANY

CAE-30.

DOCKET# ER94-1409,003, CAMBRIDGE ELECTRIC LIGHT COMPANY

OTHER#S EL94-88,003, CAMBRIDGE ELECTRIC LIGHT COMPANY

EL94-88,004, CAMBRIDGE ELECTRIC LIGHT COMPANY

ER94-1409,004, CAMBRIDGE ELECTRIC LIGHT COMPANY

CAE-31.

DOCKET# ER99-1142,003, NEW ENGLAND POWER POOL

CAE-32.

DOCKET# ER98-3853,005, NEW ENGLAND POWER POOL

CAE-33.

DOCKET# ER99-3888,001, PP&L, INC.

CAE-34.

DOCKET# ER00-801,001, TAMPA ELECTRIC COMPANY

CAE-35.

DOCKET# ER00-1830,001, EL SEGUNDO POWER, LLC

CAE-36.

DOCKET# EL00-62,004, ISO NEW ENGLAND, INC.

OTHER#S ER00-2052,005, ISO NEW ENGLAND, INC.

ER00-2016,002, NEW ENGLAND POWER POOL

EL00-59,002, CENTRAL MAINE POWER COMPANY, NORTHEAST UTILITIES SERVICE COMPANY, UNITED ILLUMINATING COMPANY, UNITIL POWER CORPORATION, FITCHBURG GAS AND ELECTRIC LIGHT COMPANY AND VERMONT ELECTRIC POWER COMPANY V. NEW ENGLAND POWER POOL AND ISO NEW ENGLAND, INC.

ER00-2005,002, CENTRAL MAINE POWER COMPANY, NORTHEAST UTILITIES SERVICE COMPANY, UNITED ILLUMINATING COMPANY, UNITIL POWER CORPORATION, FITCHBURG GAS AND ELECTRIC LIGHT COMPANY AND VERMONT ELECTRIC POWER COMPANY V. NEW ENGLAND POWER POOL AND ISO NEW ENGLAND, INC.

CAE-37.

DOCKET# ER00-2413,004, AMERICAN ELECTRIC POWER SERVICE CORPORATION

CAE-38.

DOCKET# EL01-55,000, MIRANT AMERICAS ENERGY MARKETING, LP, MIRANT NEW YORK, INC., MIRANT BOWLINE, LLC, MIRANT LOVETT, LLC AND MIRANT NY-GEN, LLC V. NEW YORK INDEPENDENT SYSTEM OPERATOR, INC.

CAE-39.

DOCKET# OA01-4,000, AMERICAN ELECTRIC POWER SERVICE CORPORATION

CAE-40.

DOCKET# EL01-20,000, CITIZENS COMMUNICATIONS COMPANY

OTHER#S ER95-1586,006, CITIZENS COMMUNICATIONS COMPANY

ER95-1586,007, CITIZENS COMMUNICATIONS COMPANY

ER95-1586,008, CITIZENS COMMUNICATIONS COMPANY

ER95-1586,009, CITIZENS COMMUNICATIONS COMPANY

EL96-17,002, CITIZENS COMMUNICATIONS COMPANY

EL96-17,003, CITIZENS COMMUNICATIONS COMPANY

OA96-184,004, CITIZENS COMMUNICATIONS COMPANY

OA96-184,005, CITIZENS COMMUNICATIONS COMPANY

CAE-41.

DOCKET# EL00-79,000, MID-TEX G&T ELECTRIC COOPERATIVE, INC., BIG COUNTRY ELECTRIC COOPERATIVE, INC., COLEMAN COUNTY ELECTRIC COOPERATIVE, INC., CONCHO VALLEY ELECTRIC COOPERATIVE, INC., GOLDEN SPREAD ELECTRIC COOPERATIVE, INC., KIMBLE ELECTRIC COOPERATIVE, INC., LIGHTHOUSE ELECTRIC COOPERATIVE, INC., RIO GRANDE ELECTRIC COOPERATIVE, INC., SOUTHWEST TEXAS ELECTRIC COOPERATIVE, INC. AND TAYLOR ELECTRIC COOPERATIVE, INC. V. WEST TEXAS UTILITIES COMPANY

CAE-42.

DOCKET# EL00-95,012, SAN DIEGO GAS & ELECTRIC COMPANY, CALIFORNIA INDEPENDENT SYSTEM OPERATOR CORPORATION AND CALIFORNIA POWER EXCHANGE CORPORATION

OTHER#S EL00-95,006, SAN DIEGO GAS & ELECTRIC COMPANY, CALIFORNIA INDEPENDENT SYSTEM OPERATOR CORPORATION AND CALIFORNIA POWER EXCHANGE CORPORATION

CAE-43.

DOCKET# ER98-4608,002, PP&L ENERGYPLUS COMPANY

Consent Agenda—Markets, Tariffs and Rates—Gas

CAG-1.

OMITTED

CAG-2.

DOCKET# RP01-272,000, GREAT LAKES GAS TRANSMISSION LIMITED PARTNERSHIP

CAG-3.

DOCKET# RP01-350,000, COLORADO INTERSTATE GAS COMPANY

CAG-4.

OMITTED

CAG-5.

OMITTED

CAG-6.

DOCKET# RP01-361,000, NORTHERN BORDER PIPELINE COMPANY

CAG-7.

DOCKET# RP01-317,000, RELIANT ENERGY GAS TRANSMISSION COMPANY

CAG-8.

OMITTED

CAG-9.

DOCKET# RP01-314,000, WILLISTON BASIN INTERSTATE PIPELINE COMPANY

CAG-10.

DOCKET# RP01-292,000, MISSISSIPPI RIVER TRANSMISSION CORPORATION

CAG-11.

DOCKET# RP97-288,009, TRANSWESTERN PIPELINE COMPANY

OTHER'S RP97-288,010, TRANSWESTERN PIPELINE COMPANY

RP97-288,011, TRANSWESTERN PIPELINE COMPANY

RP97-288,012, TRANSWESTERN PIPELINE COMPANY

RP97-288,013, TRANSWESTERN PIPELINE COMPANY

RP97-288,014, TRANSWESTERN PIPELINE COMPANY

RP97-288,015, TRANSWESTERN PIPELINE COMPANY

RP97-288,016, TRANSWESTERN PIPELINE COMPANY

CAG-12.

OMITTED

CAG-13.

DOCKET# RP00-63,002, GREAT LAKES GAS TRANSMISSION LIMITED PARTNERSHIP

CAG-14.

OMITTED

CAG-15.

OMITTED

CAG-16.

DOCKET# RP98-40,000, PANHANDLE EASTERN PIPE LINE COMPANY

CAG-17.

DOCKET# RP01-298,000, WILLIAMS GAS PIPELINES CENTRAL, INC.

CAG-18.

DOCKET# RP00-209,000, TRANSCONTINENTAL GAS PIPE LINE CORPORATION

OTHER#S RP00-209,001, TRANSCONTINENTAL GAS PIPE LINE CORPORATION

RP01-245,000, TRANSCONTINENTAL GAS PIPE LINE CORPORATION

CAG-19.

DOCKET# RP99-507,004, AMOCO ENERGY TRADING CORPORATION, AMOCO PRODUCTION COMPANY AND BURLINGTON RESOURCES OIL & GAS COMPANY V. EL PASO NATURAL GAS COMPANY

OTHER#S RP99-507,005, AMOCO ENERGY TRADING CORPORATION, AMOCO PRODUCTION COMPANY AND BURLINGTON RESOURCES OIL & GAS COMPANY V. EL PASO NATURAL GAS COMPANY

RP99-507,006, AMOCO ENERGY TRADING CORPORATION, AMOCO PRODUCTION COMPANY AND BURLINGTON RESOURCES OIL & GAS COMPANY V. EL PASO NATURAL GAS COMPANY

RP99-507,007, AMOCO ENERGY TRADING CORPORATION, AMOCO PRODUCTION COMPANY AND BURLINGTON RESOURCES OIL & GAS COMPANY V. EL PASO NATURAL GAS COMPANY

RP99-507,008, AMOCO ENERGY TRADING CORPORATION, AMOCO PRODUCTION COMPANY AND BURLINGTON RESOURCES OIL & GAS COMPANY V. EL PASO NATURAL GAS COMPANY

RP99-507,009, AMOCO ENERGY TRADING CORPORATION, AMOCO PRODUCTION COMPANY AND BURLINGTON RESOURCES OIL & GAS COMPANY V. EL PASO NATURAL GAS COMPANY

RP99-507,010, AMOCO ENERGY TRADING CORPORATION, AMOCO PRODUCTION COMPANY AND BURLINGTON RESOURCES OIL & GAS COMPANY V. EL PASO NATURAL GAS COMPANY

RP00-139,001, KN MARKETING, L.P. V. EL PASO NATURAL GAS COMPANY

RP00-139,002, KN MARKETING, L.P. V. EL PASO NATURAL GAS COMPANY

RP00-336,000, EL PASO NATURAL GAS COMPANY

CAG-20.

DOCKET# OR99-6,000, TE PRODUCTS PIPELINE COMPANY, L.P.

CAG-21.

OMITTED

CAG-22.

DOCKET# RP01-225,002, GULF SOUTH PIPELINE COMPANY, LP

OTHER#S RP01-225,001, GULF SOUTH PIPELINE COMPANY, LP

CAG-23.

DOCKET# RP00-372,002, ANR PIPELINE COMPANY

CAG-24.

OMITTED

CAG-25.

DOCKET# RP00-631,001, NATURAL GAS PIPELINE COMPANY OF AMERICA

OTHER#S RP00-613,001, PANHANDLE EASTERN PIPE LINE COMPANY

CAG-26.

DOCKET# RP01-23,001, ALGONQUIN GAS TRANSMISSION COMPANY

OTHER#S RP01-17,001, MARITIMES & NORTHEAST PIPELINE, L.L.C.

RP01-22,001, EAST TENNESSEE NATURAL GAS COMPANY

RP01-25,001, TEXAS EASTERN TRANSMISSION CORPORATION

CAG-27.

OMITTED

CAG-28.

DOCKET# MG01-18,000, IROQUOIS GAS TRANSMISSION SYSTEM, L.P.

CAG-29.

DOCKET# OR00-6,000, CHEVRON PIPE LINE COMPANY

CAG-30.

DOCKET# RP01-73,000, SOUTHWEST GAS TRANSMISSION COMPANY, A LIMITED PARTNERSHIP

CAG-31.

DOCKET# RM96-1,015, STANDARDS FOR BUSINESS PRACTICES OF INTERSTATE NATURAL GAS PIPELINES

OTHER#S RP01-277,000, NORTHWEST PIPELINE CORPORATION

RP01-280,000, WYOMING INTERSTATE COMPANY, LTD.

RP01-281,000, YOUNG GAS STORAGE COMPANY, LTD.

RP01-281,001, YOUNG GAS STORAGE COMPANY, LTD.

RP01-282,000, EL PASO NATURAL GAS COMPANY

RP01-283,000, MOJAVE PIPELINE COMPANY

RP01-284,000, COLORADO INTERSTATE GAS COMPANY

RP01-285,000, KANSAS PIPELINE COMPANY

RP01-286,000, MIDCOAST INTERSTATE TRANSMISSION, INC.

RP01-287,000, MID LOUISIANA GAS COMPANY

RP01-288,000, NORTHERN BORDER PIPELINE COMPANY

RP01-289,000, ALGONQUIN GAS TRANSMISSION COMPANY

RP01-290,000, ALGONQUIN LNG, INC.

RP01-291,000, TEXAS EASTERN TRANSMISSION CORPORATION

RP01-294,000, BLUE LAKE GAS STORAGE COMPANY

RP01-295,000, ANR STORAGE COMPANY

RP01-296,000, STEUBEN GAS STORAGE COMPANY

RP01-297,000, ANR PIPELINE COMPANY

RP01-299,000, KERN RIVER GAS TRANSMISSION COMPANY

RP01-300,000, CLEAR CREEK STORAGE COMPANY, L.L.C.

RP01-301,000, MISSISSIPPI CANYON GAS PIPELINE, LLC

RP01-302,000, GARDEN BANKS GAS PIPELINE, LLC

RP01-303,000, DESTIN PIPELINE COMPANY, L.L.C.

RP01-304,000, NAUTILUS PIPELINE COMPANY, L.L.C.

RP01-306,000, KINDER MORGAN INTERSTATE GAS TRANSMISSION LLC

RP01-307,000, OVERTHRUST PIPELINE COMPANY

RP01-308,000, HIGH ISLAND OFFSHORE SYSTEM, L.L.C.

RP01-309,000, GULF STATES TRANSMISSION CORPORATION

RP01-310,000, TENNESSEE GAS PIPELINE COMPANY

RP01-311,000, STINGRAY PIPELINE COMPANY

RP01-312,000, U-T OFFSHORE SYSTEM, L.L.C.

RP01-313,000, K N WATTENBERG LIMITED LIABILITY COMPANY

RP01-318,000, WILLISTON BASIN INTERSTATE PIPELINE COMPANY

RP01-319,000, VIKING GAS TRANSMISSION COMPANY

RP01-321,000, SOUTHERN NATURAL GAS COMPANY

RP01-322,000, DAUPHIN ISLAND GATHERING PARTNERS

RP01-324,000, EGAN HUB PARTNERS, L. P.

RP01-325,000, MARITIMES & NORTHEAST PIPELINE, L.L.C.

RP01-326,000, GREAT LAKES GAS TRANSMISSION LIMITED PARTNERSHIP

RP01-327,000, NATURAL GAS PIPELINE COMPANY OF AMERICA

RP01-328,000, TRAILBLAZER PIPELINE COMPANY

RP01-329,000, QUESTAR PIPELINE COMPANY

RP01-331,000, COVE POINT LNG LIMITED PARTNERSHIP

RP01-333,000, TUSCARORA GAS TRANSMISSION COMPANY

RP01-334,000, CANYON CREEK COMPRESSION COMPANY

RP01-335,000, TRANSCOLORADO GAS TRANSMISSION COMPANY

RP01-336,000, NATIONAL FUEL GAS SUPPLY CORPORATION

RP01-337,000, OZARK GAS TRANSMISSION, L.L.C.

RP01-338,000, MIDWESTERN GAS TRANSMISSION COMPANY

RP01-339,000, BLACK MARLIN PIPELINE COMPANY

RP01-340,000, GULF SOUTH PIPELINE COMPANY, LP

RP01-341,000, SABINE PIPE LINE LLC

RP01-342,000, COLUMBIA GULF TRANSMISSION COMPANY

RP01-343,000, GRANITE STATE GAS TRANSMISSION, INC.

RP01-344,000, PAIUTE PIPELINE COMPANY

RP01-345,000, COLUMBIA GAS TRANSMISSION CORPORATION

RP01-346,000, DISCOVERY GAS TRANSMISSION LLC

RP01-347,000, PETAL GAS STORAGE COMPANY

RP01-348,000, WESTGAS INTERSTATE, INC.

RP01-349,000, EAST TENNESSEE NATURAL GAS COMPANY

RP01-351,000, SOUTHWEST GAS STORAGE COMPANY

RP01-352,000, IROQUOIS GAS TRANSMISSION SYSTEM, L.P.

RP01-353,000, TRUNKLINE LNG COMPANY

RP01-354,000, SEA ROBIN PIPELINE COMPANY

RP01-356,000, TRUNKLINE GAS COMPANY

RP01-357,000, PANHANDLE EASTERN PIPE LINE COMPANY

RP01-358,000, MICHIGAN GAS STORAGE COMPANY

RP01-360,000, DOMINION TRANSMISSION, INC.

RP01-362,000, VENICE GATHERING SYSTEM, L.L.C.

RP01-363,000, TEXAS GAS TRANSMISSION CORPORATION

RP01-364,000, WILLIAMS GAS PIPELINES CENTRAL, INC.

RP01-365,000, TRANSWESTERN PIPELINE COMPANY

RP01-366,000, NORTHERN NATURAL GAS COMPANY

RP01-367,000, FLORIDA GAS TRANSMISSION COMPANY

RP01-368,000, RELIANT ENERGY GAS TRANSMISSION COMPANY

RP01-369,000, MISSISSIPPI RIVER TRANSMISSION CORPORATION

CAG-32.

OMITTED

Consent Agenda—Energy Projects—Hydro

CAH-1.

DOCKET# P-1988,025, PACIFIC GAS AND ELECTRIC COMPANY

CAH-2.

DOCKET# P-2017,015, SOUTHERN CALIFORNIA EDISON COMPANY

CAH-3.

DOCKET# P-2355,008, PECO ENERGY COMPANY AND EXELON GENERATION COMPANY, L.L.C.

CAH-4.

DOCKET# DI99-3,001, CITY OF ATKA, ALASKA

CAH-5.

DOCKET# P-2842,029, CITY OF IDAHO FALLS, IDAHO

OTHER#S P-553,066, CITY OF SEATTLE, WASHINGTON

P-553,085, CITY OF SEATTLE, WASHINGTON

P-553,115, CITY OF SEATTLE, WASHINGTON 2

P-553,120, CITY OF SEATTLE, WASHINGTON

P-619,077, CITY OF SANTA CLARA, CALIFORNIA

P-619,081, CITY OF SANTA CLARA, CALIFORNIA

P-619,087, CITY OF SANTA CLARA, CALIFORNIA

P-619,090, CITY OF SANTA CLARA, CALIFORNIA

P-637,015, PUBLIC UTILITY DISTRICT NO. 1 OF CHELAN COUNTY

P-637,020, PUBLIC UTILITY DISTRICT NO. 1 OF CHELAN COUNTY

P-943,068, PUBLIC UTILITY DISTRICT NO. 1 OF CHELAN COUNTY

P-943,073, PUBLIC UTILITY DISTRICT NO. 1 OF CHELAN COUNTY

P-1417,052, THE CENTRAL NEBRASKA PUBLIC POWER IRRIGATION DISTRICT

P-1417,060, THE CENTRAL NEBRASKA PUBLIC POWER IRRIGATION DISTRICT

P-1417,089, THE CENTRAL NEBRASKA PUBLIC POWER IRRIGATION DISTRICT

P-1417,099, THE CENTRAL NEBRASKA PUBLIC POWER IRRIGATION DISTRICT

P-1862,041, CITY OF TACOMA, WASHINGTON

P-1862,052, CITY OF TACOMA, WASHINGTON

P-1862,079, CITY OF TACOMA, WASHINGTON

P-1862,086, CITY OF TACOMA, WASHINGTON

P-2000,019, NEW YORK POWER AUTHORITY

P-2000,024, NEW YORK POWER AUTHORITY

P-2000,030, NEW YORK POWER AUTHORITY

P-2016,033, CITY OF TACOMA, WASHINGTON

P-2016,040, CITY OF TACOMA, WASHINGTON

P-2016,048, CITY OF TACOMA, WASHINGTON

P-2016,049, CITY OF TACOMA, WASHINGTON

P-2042,009, PUBLIC UTILITY DISTRICT NO. 1 OF PEND OREILLE COUNTY

P-2042,018, PUBLIC UTILITY DISTRICT NO. 1 OF PEND OREILLE COUNTY

P-2101,057, SACRAMENTO MUNICIPAL UTILITY DISTRICT

P-2101,060, SACRAMENTO MUNICIPAL UTILITY DISTRICT

P-2101,072, SACRAMENTO MUNICIPAL UTILITY DISTRICT

P-2144,020, CITY OF SEATTLE, WASHINGTON

P-2144,022, CITY OF SEATTLE, WASHINGTON

P-2144,026, CITY OF SEATTLE, WASHINGTON

P-2144,027, CITY OF SEATTLE, WASHINGTON

P-2145,035, PUBLIC UTILITY DISTRICT NO. 1 OF CHELAN COUNTY

P-2145,038, PUBLIC UTILITY DISTRICT NO. 1 OF CHELAN COUNTY

P-2149,072, PUBLIC UTILITY DISTRICT NO. 1 OF DOUGLAS COUNTY

P-2149,081, PUBLIC UTILITY DISTRICT NO. 1 OF DOUGLAS COUNTY

P-2149,089, PUBLIC UTILITY DISTRICT NO. 1 OF DOUGLAS COUNTY

P-2149,092, PUBLIC UTILITY DISTRICT NO. 1 OF DOUGLAS COUNTY

P-2216,037, NEW YORK POWER AUTHORITY

P-2216,039, NEW YORK POWER AUTHORITY

P-2216,047, NEW YORK POWER AUTHORITY

P-2216,051, NEW YORK POWER AUTHORITY

P-2409,098, CALAVERAS COUNTY WATER DISTRICT

P-2409,106, CALAVERAS COUNTY WATER DISTRICT

P-2409,115, CALAVERAS COUNTY WATER DISTRICT

P-2409,117, CALAVERAS COUNTY WATER DISTRICT

P-2442,032, CITY OF WATERTOWN, NEW YORK

P-2442,043, CITY OF WATERTOWN, NEW YORK

P-2442,055, CITY OF WATERTOWN, NEW YORK

P-2442,056, CITY OF WATERTOWN, NEW YORK

P-2685,006, NEW YORK POWER AUTHORITY

P-2685,008, NEW YORK POWER AUTHORITY

P-2685,012, NEW YORK POWER AUTHORITY

P-2685,013, NEW YORK POWER AUTHORITY

P-2705,012, CITY OF SEATTLE, WASHINGTON

P-2705,016, CITY OF SEATTLE, WASHINGTON

P-2705,024, CITY OF SEATTLE, WASHINGTON

P-2705,025, CITY OF SEATTLE, WASHINGTON

P-2842,033, CITY OF IDAHO FALLS, IDAHO

P-2842,035, CITY OF IDAHO FALLS, IDAHO

P-2842,036, CITY OF IDAHO FALLS, IDAHO

P-2952,061, CITY OF IDAHO FALLS, IDAHO

P-2952,063, CITY OF IDAHO FALLS, IDAHO

P-2952,065, CITY OF IDAHO FALLS, IDAHO

P-2952,066, CITY OF IDAHO FALLS, IDAHO

P-2959,076, CITY OF SEATTLE, WASHINGTON

P-2959,088, CITY OF SEATTLE, WASHINGTON

P-2959,100, CITY OF SEATTLE, WASHINGTON

P-2959,106, CITY OF SEATTLE, WASHINGTON

P-2997,019, SOUTH SUTTER WATER DISTRICT

P-2997,025, SOUTH SUTTER WATER DISTRICT

P-3083,085, OKLAHOMA MUNICIPAL POWER AUTHORITY

P-3083,092, OKLAHOMA MUNICIPAL POWER AUTHORITY

P-3083,097, OKLAHOMA MUNICIPAL POWER AUTHORITY

P-3083,098, OKLAHOMA MUNICIPAL POWER AUTHORITY

P-3190,009, CITY OF SANTA CLARA, CALIFORNIA

P-3190,010, CITY OF SANTA CLARA, CALIFORNIA

P-3190,014, CITY OF SANTA CLARA, CALIFORNIA

P-3190,015, CITY OF SANTA CLARA, CALIFORNIA

P-3193,009, CITY OF SANTA CLARA, CALIFORNIA

P-3193,010, CITY OF SANTA CLARA, CALIFORNIA

P-3193,014, CITY OF SANTA CLARA, CALIFORNIA

P-3193,015, CITY OF SANTA CLARA, CALIFORNIA

P-6842,097, CITIES OF ABERDEEN AND TACOMA, WASHINGTON

P-6842,123, CITIES OF ABERDEEN AND TACOMA, WASHINGTON

P-6842,125, CITIES OF ABERDEEN AND TACOMA, WASHINGTON

P-10551,069, CITY OF OSWEGO, NEW YORK

P-10551,076, CITY OF OSWEGO, NEW YORK

P-10551,084, CITY OF OSWEGO, NEW YORK

P-10551,087, CITY OF OSWEGO, NEW YORK

P-553,114, CITY OF SEATTLE, WASHINGTON

P-619,085, CITY OF SANTA CLARA, CALIFORNIA

P-637,019, PUBLIC UTILITY DISTRICT NO. 1 OF CHELAN COUNTY

P-943,072, PUBLIC UTILITY DISTRICT NO. 1 OF CHELAN COUNTY

P-1417,086, THE CENTRAL NEBRASKA PUBLIC POWER IRRIGATION DISTRICT

P-1862,075, CITY OF TACOMA, WASHINGTON

P-2000,029, NEW YORK POWER AUTHORITY

P-2016,047, CITY OF TACOMA, WASHINGTON

P-2042,017, PUBLIC UTILITY DISTRICT NO. 1 OF PEND OREILLE COUNTY

P-2101,071, SACRAMENTO MUNICIPAL UTILITY DISTRICT

P-2144,025, CITY OF SEATTLE, WASHINGTON

P-2145,037, PUBLIC UTILITY DISTRICT NO. 1 OF CHELAN COUNTY

P-2149,088, PUBLIC UTILITY DISTRICT NO. 1 OF DOUGLAS COUNTY

P-2216,045, NEW YORK POWER AUTHORITY

P-2409,113, CALAVERAS COUNTY WATER DISTRICT

P-2442,053, CITY OF WATERTOWN, NEW YORK

P-2685,011, NEW YORK POWER AUTHORITY

P-2705,023, CITY OF SEATTLE, WASHINGTON

P-2959,098, CITY OF SEATTLE, WASHINGTON

P-2997,024, SOUTH SUTTER WATER DISTRICT

P-3083,095, OKLAHOMA MUNICIPAL POWER AUTHORITY

P-3190,012, CITY OF SANTA CLARA, CALIFORNIA

P-3193,012, CITY OF SANTA CLARA, CALIFORNIA

P-6842,122, CITIES OF ABERDEEN AND TACOMA, WASHINGTON

P-10551,083, CITY OF OSWEGO, NEW YORK

CAH-6.

DOCKET# P-10482,042, WOODSTONE LAKES DEVELOPMENT, L.L.C. AND WOODSTONE TORONTO DEVELOPMENT, L.L.C. V. SOUTHERN ENERGY NY-GEN, L.L.C.

OTHER#S P-10482,043, WOODSTONE LAKES DEVELOPMENT, L.L.C. AND WOODSTONE TORONTO DEVELOPMENT, L.L.C. V. SOUTHERN ENERGY NY-GEN, L.L.C.

Consent Agenda—Energy Projects—Certificates

CAC-1.

DOCKET# CP01-97,000, NORNEW ENERGY SUPPLY, INC. AND NORSE PIPELINE, L.L.C.

CAC-2.

DOCKET# CP01-17,000, ALGONQUIN GAS TRANSMISSION COMPANY

CAC-3.

DOCKET# CP98-795,001, TRANSWESTERN PIPELINE COMPANY

CAC-4.

DOCKET# CP00-6,002, GULFSTREAM NATURAL GAS SYSTEM, L.L.C.

OTHER#S CP00-8,002, GULFSTREAM NATURAL GAS SYSTEM, L.L.C.

CP00-7,002, GULFSTREAM NATURAL GAS SYSTEM, L.L.C.

CAC-5.

DOCKET# CP00-48,002, TENNESSEE GAS PIPELINE COMPANY

OTHER#S CP00-48,000, TENNESSEE GAS PIPELINE COMPANY

Energy Projects—Hydro Agenda

H-1.

RESERVED

Energy Projects—Certificates Agenda

C-1.

RESERVED

Markets, Tariffs and Rates—Electric Agenda

E-1.

RESERVED

Markets, Tariffs and Rates—Gas Agenda

G-1.

RESERVED

David P. Boergers,
Secretary.

[FR Doc. 01-10078 Filed 4-19-01; 11:53 am]

BILLING CODE 6717-01-P